FEDERAL COMMUNICATIONS COMMISSION

FCC To Hold Open Commission Meeting; Friday, July 11, 2014

July 3, 2014.

The Federal Communications Commission will hold an Open Meeting on the subjects listed below on Friday, July 11, 2014. The meeting is scheduled to commence at 10:30 a.m. in Room TW-C305, at 445 12th Street SW., Washington, DC. The Commission is waiving the sunshine period prohibition contained in Section 1.1203 of the Commission's rules, 47 CFR 1.1203, until 11:59 p.m. on Monday July 7, 2014. Thus, presentations with respect to the items listed below will be permitted until that time.

Item No. | Bureau | Subject
1 | WIRELINE COMPETITION | TITLE: Modernizing the E-rate Program for Schools and Libraries (WC Docket No. 13-184).
|  | SUMMARY: The Commission will consider a Report and Order to modernize the E-Rate program and expand support for WiFi connectivity for schools and libraries. The R&O seeks to close the WiFi gap, make E-Rate dollars go farther, and deliver faster, simpler and more efficient applications and other processes.
2 | WIRELINE COMPETITION | TITLE: Connect America Fund (WC Docket No. 10-90); ETC Annual Reports and Certifications (WC Docket No. 14-58).
|  | SUMMARY: The Commission will consider a Report and Order establishing a budget and a methodology for selecting winning applications for the Connect America rural broadband experiments adopted by the Commission in the January Tech Transitions Order.
3 | MEDIA | TITLE: Closed Captioning of Internet Protocol-Delivered Video Programming: Implementation of the Twenty-First Century Communications and Video Accessibility Act of 2010 (MB Docket No. 11-154); Closed Captioning of Internet Protocol-Delivered Video Clips.
|  | SUMMARY: The Commission will consider a Second Order on Reconsideration and a Second Further Notice of Proposed Rulemaking that revisits the Commission's determinations regarding the captioning of video clips when delivered using Internet protocol, ensuring that individuals with hearing disabilities are able to enjoy the full benefits of broadband technology.
* The summaries listed in this notice are intended for the use of the public attending open Commission meetings. Information not summarized may also be considered at such meetings. Consequently these summaries should not be interpreted to limit the Commission's authority to consider any relevant information.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2014-16623 Filed 7-15-14; 8:45 am]

BILLING CODE 6712-01-P